CONSUMER PRODUCT SAFETY COMMISSION

Sunshine Act Meeting

TIME AND DATE: Wednesday, December 4, 2024—10:00 a.m. (See MATTERS TO BE CONSIDERED).

PLACE: The meeting will be held remotely, and in person at 4330 East-West Highway, Bethesda, Maryland 20814.

STATUS: Commission Meeting—Open to the Public.

MATTERS TO BE CONSIDERED:

Briefing Matter: Final Rule to Revise 16 CFR part 1110, Certificates of Compliance and to Implement eFiling of Certificates for Regulated, Imported Consumer Products.

To attend the meeting remotely, please use the following link: https://cpsc.webex.com/cpsc/j.php?MTID=m3df61e5011f7fbbb45378f5abfe9d41a.

CONTACT PERSON FOR MORE INFORMATION: Alberta E. Mills, Office of the Secretary, U.S. Consumer Product Safety Commission, 4330 East-West Highway, Bethesda, MD 20814, 301-504-7479 (Office) or 240-863-8938 (Cell).

Dated: November 27, 2024.
Alberta Mills,
Commission Secretary.

[FR Doc. 2024-28370 Filed 11-29-24; 11:15 am]

BILLING CODE P